DEPARTMENT OF HOMELAND SECURITY

Coast Guard

33 CFR Part 117

[Docket No. USCG-2018-0025]

Drawbridge Operation Regulation; Willamette River, Portland, OR

AGENCY: Coast Guard, DHS.

ACTION: Notice of deviation from drawbridge regulation.

SUMMARY: The Coast Guard has issued a temporary deviation from the operating schedule that governs the Broadway Bridge across the Willamette River, mile 11.7, at Portland, OR. The deviation is necessary to make adjustments to new equipment. This deviation allows the bridge to operate the double bascule span one side at a time, single leaf.

DATES: This deviation is effective without actual notice from January 30, 2018, to 11:59 p.m. on February 23, 2018. For the purposes of enforcement, actual notice will be used from 1 a.m. on January 27, 2018, through January 30, 2018.

ADDRESSES: The docket for this deviation, USCG-2018-0025, is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email Steven.M.Fischer@uscg.mil.

SUPPLEMENTARY INFORMATION: Multnomah County, the bridge owner, requested the Broadway Bridge be authorized to open half the span in single leaf mode to make adjustments to newly installed equipment. The Broadway Bridge crosses the Willamette River at mile 11.7, and provides 90 feet of vertical clearance above Columbia River Datum 0.0 while in the closed-to-navigation position, and provides 125 feet of horizontal clearance with half the span open. This bridge operates in accordance with 33 CFR 117.897. This deviation allows the double bascule span of the Broadway Bridge across the Willamette River, mile 11.7, to operate the bridge in single leaf mode to marine traffic. The deviation period will be from 1 a.m. on January 27, 2018 to 11:59 p.m. on February 23, 2018. The bridge shall operate in accordance to 33 CFR 117.897 at all other times.

Waterway usage on this part of the Willamette River includes vessels ranging from commercial tug and barge to small pleasure craft. One particular shipping company regularly requests a full bridge span opening in order to transit the river. In anticipation of this deviation, the shipping company has agreed to give a 7 day notice and a 24 hour notice to the bridge owner for a request of a full bridge span opening. If this procedure is followed, the bridge owner has agreed to comply with these requests.

Vessels able to pass through the bridge in the closed-to-navigation position may do so at anytime. The bridge will be able to open for emergencies, and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: January 16, 2018.
Steven M. Fischer,
Bridge Administrator, Thirteenth Coast Guard District.

[FR Doc. 2018-01703 Filed 1-29-18; 8:45 am]

BILLING CODE 9110-04-P